INTERNATIONAL TRADE COMMISSION

[Investigation No. 337-TA-666]

Notice of Commission Decision Not To Review an Initial Determination Correcting the Name of ASUS Computer International in the Complaint and Notice of Investigation; Certain Cold Cathode Fluorescent Lamp (“CCFL”) Inverter Circuits and Products Containing the Same

AGENCY: U.S. International Trade Commission.

ACTION: Notice.

SUMMARY: Notice is hereby given that the U.S. International Trade Commission has determined not to review an initial determination (“ID”) (Order No. 8) issued by the presiding administrative law judge (“ALJ”) in the above-referenced investigation correcting the name of ASUS Computer International in the complaint and notice of investigation.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 14, 2009, based on a complaint filed by O2 Micro International, Ltd. of the Cayman Islands and O2 Micro, Inc. of Santa Clara, California (collectively, “O2 Micro”). 74 FR 2099. The complaint alleges violations of section 337 of the Tariff Act of 1930 (19 U.S.C. 1337) in the importation into the United States, the sale for importation, and the sale within the United States after importation of certain cold cathode fluorescent lamp inverter circuits and products containing the same by reason of infringement of various U.S. patents. The complaint names ten respondents, including ASUSTeK Computer International America of Fremont, California.

On April 27, 2009, O2 Micro moved to amend the complaint and notice of investigation to correct the name of respondent ASUSTeK Computer International America to ASUS Computer International (“ASUS”). No party opposed this motion.

On May 13, 2009, the ALJ issued the subject ID correcting the name of respondent ASUS. No petitions for review of the ID were filed.

The Commission has determined not to review the ALJ's ID.

The authority for the Commission's determination is contained in section 337 of the Tariff Act of 1930, as amended (19 U.S.C. 1337), and in section 210.42 of the Commission's Rules of Practice and Procedure (19 CFR 210.42).

By order of the Commission.
Issued: June 2, 2009.
Marilyn R. Abbott,
Secretary to the Commission.

[FR Doc. E9-13129 Filed 6-4-09; 8:45 am]

BILLING CODE 7020-02-P